DEPARTMENT OF THE TREASURY

Internal Revenue Service

26 CFR Part 1

[REG-133353-16]

RIN 1545-BN63

Disclosures of Return Information Reflected on Returns to Officers and Employees of the Department of Commerce for Certain Statistical Purposes and Related Activities; Correction

AGENCY: Internal Revenue Service (IRS), Treasury.

ACTION: Notice of proposed rulemaking by cross-reference to temporary regulation; correction.

SUMMARY: This document contains corrections to a notice of proposed rulemaking by cross-reference to temporary regulation (REG-133353-16) that was published in the Federal Register on Friday, December 9, 2016. The proposed regulations authorize the disclosure of specified return information to the Census Bureau (Bureau) for purposes of structuring the censuses and national economic accounts and conducting related statistical activities authorized by title 13.

DATES: Written or electronic comments and request for public hearing for the notice of proposed rulemaking by cross-reference to temporary regulation at 81 FR 89022, December 9, 2016, are still being accepted and must be received by March 9, 2017.

ADDRESSES: Send submissions to CC:PA:LPD:PR (REG-133353-16), Room 5203, Internal Revenue Service, P.O. Box 7604, Ben Franklin Station, Washington, DC 20044. Submissions may be hand delivered Monday through Friday between the hours of 8 a.m. and 4 p.m. to CC:PA:LPD:PR (REG-133353-16), Courier's desk, Internal Revenue Service, 1111 Constitution Avenue NW., Washington, DC 20224, or sent electronically, via the Federal eRulemaking Portal at www.regulations.gov (IRS REG-133353-16).

SUPPLEMENTARY INFORMATION:

Background

The notice of proposed rulemaking by cross-reference to temporary regulation that is the subject of this document is under section 6103(j)(1)(A) of the Internal Revenue Code.

Need for Correction

As published, the notice of proposed rulemaking by cross-reference to temporary regulation (REG-133353-16) contains errors that are misleading and are in need of clarification.

Correction to Publication

Accordingly, the notice of proposed rulemaking by cross-reference to temporary regulation, that is the subject of FR Doc. 2016-29490, is corrected as follows:

1. On page 89022, in the preamble, second column, second line from the top of column, the language “CC:PA:LPD:PR (REG-133533-16), Room” is corrected to read “CC:PA:LPD:PR (REG-133353-16), Room”.

2. On page 89022, in the preamble, second column, eighth line from the top of column, the language “4 p.m. to CC:PA:LPD:PR (REG-133533-” is corrected to read “4 p.m. to CC:PA:LPD:PR (REG-133353-”.

3. On page 89022, in the preamble, second column, sixth line from the bottom of ADDRESSES caption, the language “Service, 1111 Constitutional Avenue” is corrected to read “Service, 1111 Constitution Avenue”.

§ 301.6103(j)(1)-1 [Corrected]

4. On page 89023, first column, third line of paragraph (e), the language “(b)(3)(v), (b)(3)(xxv), (b)(3)(xxv) through” is corrected to read “(b)(3)(v), (b)(3)(xxv) through”.

Martin V. Franks,
Branch Chief, Publications and Regulations Branch, Legal Processing Division, Associate Chief Counsel (Procedure and Administrative).

[FR Doc. 2017-00946 Filed 1-19-17; 8:45 am]

BILLING CODE 4830-01-P